DEPARTMENT OF JUSTICE

Antitrust Division

Notice Pursuant to the National Cooperative Research and Production Act of 1993—Waste Equipment Technology Association

Notice is hereby given that on August 17, 2004, pursuant to Section 6(a) of the National Cooperative Research and Production Act of 1993, 15 U.S.C. § 4301 et seq. (“the Act”), the Waste Equipment Technology Association (WASTEC) has filed written notifications simultaneously with the Attorney General and the Federal Trade Commission disclosing: (1) The name and principal place of business of the standards development organization; and (2) the nature and scope of its standards development activities. The notifications were filed for the purpose of invoking the Act's provisions limiting the recovery of antitrust plaintiffs to actual damages under specified circumstances.

Pursuant to Section 6(b) of the Act, the name and principal place of business of the standards development organization is: Waste Equipment Technology Association, Washington, DC. The nature and scope of WASTEC's standards development activities are that WASTEC serves as the Secretariat for the American National Standards Institute (ANSI) Accredited Standards Committee Z245 on Equipment Technology and Operations for Wastes and Recyclable Materials. WASTEC facilitates the development of ANSI safety standards for solid waste equipment manufacturers and users.

For further information concerning WASTEC's standards development activities, please contact WASTEC's Executive Vice President, Gary Satterfield at (202) 244-4700.

Dorothy B. Fountain,
Deputy Director of Operations, Antitrust Division.

[FR Doc. 04-22293 Filed 10-4-04; 8:45 am]

BILLING CODE 4410-11-M